INTERNATIONAL TRADE COMMISSION

[Investigation No. 337-TA-622]

In the Matter of Certain Base Plugs; Notice of Commission Decision Not to Review an Initial Determination Granting a Joint Motion To Terminate Investigation

AGENCY: U.S. International Trade Commission.

ACTION: Notice.

SUMMARY: Notice is hereby given that the U.S. International Trade Commission has determined not to review the presiding administrative law judge's (“ALJ”) initial determination (“ID”) (Order No. 6) granting a joint motion to terminate the above-captioned investigation as to all Respondents.

FOR FURTHER INFORMATION CONTACT: Jonathan J. Engler, Esq., Office of the General Counsel, U.S. International Trade Commission, 500 E Street, SW., Washington, DC 20436, telephone (202) 205-3112. Copies of the ALJ's IDs and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On December 19, 2007, the Commission instituted this investigation, based on a complaint filed by Anchor Sports I, Inc. of Richardson, Texas (“Anchor”). The complaint, as supplemented, alleges violations of section 337 in the importation into the United States, the sale for importation, and the sale within the United States after importation of certain base plugs by reason of infringement of certain claims of U.S. Patent No. 6,142,882. The complaint, as supplemented, further alleges that an industry in the United States exists as required by subsection (a)(2) of section 337. The complaint named two firms as respondents, Schutt Sports, Inc. of Litchfield, Illinois (“Schutt”), and East Texas Sports Center, Inc. (“East Texas”) of Marshall, Texas. The complainant requested that the Commission issue a limited exclusion order and cease and desist orders.

On August 7, 2008, Anchor, Schutt and East Texas filed a joint motion seeking termination of this investigation based upon a settlement agreement. On August 27, 2008, the ALJ issued an initial determination, Order No. 6, terminating the investigation on the basis of the settlement agreement. The ALJ found no indication that termination of the investigation on the basis of the settlement agreement would adversely affect the public interest, and that the procedural requirements for terminating the investigation had been met. No petitions for review were filed.

The Commission has determined not to review the subject ID. The authority for the Commission's determination is contained in section 337 of the Tariff Act of 1930, as amended (19 U.S.C. 1337), and in section 210.42 of the Commission's Rules of Practice and Procedure (19 CFR 210.42).

By order of the Commission.
Issued: September 18, 2008.
Marilyn R. Abbott,
Secretary to the Commission.

[FR Doc. E8-22302 Filed 9-23-08; 8:45 am]

BILLING CODE 7020-02-P